DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of May, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,458 & A; Handler Textile, A Div. Of Duro Industries, Inc., Stone Mountain, GA and Duro Industries Sales Corp., A Div. of Duro Industries, Inc., Rochester, NY

TA-W-40,551; Chemical Lime Corp., Douglas Plant, Douglas, AZ

TA-W-41,121; Latronics Corp., Latrobe, PA

TA-W-41,064; Ocean State Finishing Co., Woonsocket, RI

TA-W-40,963; Credence Systems Corp., Hillsboro, OR

TA-W-40,095; Coastal Lumber Co., Daily, WV

TA-W-40,498; Precision Twist Drill Co., Rhinelander, WI

TA-W-40,492; Coastal Lumber Co.., Suffolk, VA

TA-W-40,383; New G.L.I., Inc., Formerly Doing Business as Como Products, Columbia, IN

TA-W-40,320; Elk Rapids Engineering, A Div. Of Star Cutter Co., Elk Rapids, MI

TA-W-39,846; Neville Chemical Co., Pittsburgh, PA

TA-W-39,838; Craftline Wood Products, Mountain City, TN

TA-W-39,513; Weyerhaeuser Co., Springfield Paperboard Mill, Springfield, OR

TA-W-40,191; Speedline Technologies, Electrovert, A Subsidiary of Cookson Group, Plc, Camdenton, MO

In the following cases, the investigation revealed that the criteria for eligibility have not been met for the reasons specified.

The workers firm does not produce an article as required for certification under section 222 of the Trade Act of 1974.

TA-W-40,289; Motorala, Inc., Global Telecom Solutions Sector (GTSS), Rolling Meadows, IL

TA-W-39,306; Temco Acquistition, Inc., Hibbing, MN

Increased imports did not contribute importantly to worker separations at the firm.

TA-W-40,400; Meridian Automotive Systems, Centralia, IL

TA-W-39,854 Advanced Web Dynamics, Merriville, IN

TA-W-39,480; Anvil International, Inc., Satesboro, GA

TA-W-40,833; Pittsburgh Annealing Box Co., LLC, McKees Rocks, PA

TA-W-40,808, Crown, Cork and Seal Packaging Co., Inc., Plant #77, South Connellsville, PA

TA-W-40,658; Polaroid Corp., Waltham, MA

TA-W-41,354; Gulfstream Aerospace Technologies, Bethany, OK

TA-W-40,897; National Steel Pellet Co., Keewatin, MN

TA-W-40,784; Cam Tech Tool and Mold, Meadville, PA

TA-W-40,687; Goodyear Dunlop Tires, N.A. Ltd, Huntsville, AL

TA-W-40,416; Schaffstall Manufacturing, North Collins, NY

TA-W-40,638; Hayes Lemmerz International, Inc., Petersburg, MI

TA-W-40,623; Pacific Scientific Insturments—USA, Formerly Met One, Inc., A Subsidiary of The Danaker Corp., Grants Pass, OR

TA-W-40,566; ConAgra Foods, Inc., Con Agra Grocery Products Co., Hunt Food, Perrysburg, OH

TA-W-40,689; Motor Coils Manufacturing, A Div. Of Wabtec Corp., St. Louis, MO

TA-W-41,078; Thomson Multimedia, Formerly Thomason Consumer Electronics, Inc., Indianapolis, IN

TA-W-41,264; Ilissa Bridals Ltd, New York, NY

The investigation revealed that criteria (2) has not been met. Sales or production did not decline during the relevant period as required for certification.

TA-W-40,673; Stanley Fastening Systems, East Greenwich, RI

Affirmative Determinations for Worker Adjustment Assistance

The following certifications have been issued; the date following the company name and location of each determination references the impact date for all workers of such determination.

TA-W-39,751; Grover Industries, Inc., Grover, NC: July 19, 2000.

TA-W-40,143; Quality Apparel, Inc., Dillon, SC: September 10, 2000.

TA-W-40,176; QWT Industires, Inc., Pickens, SC: September 20, 2000.

TA-W-40,691; Double Eagle Manufacturing, Tallassee, AL: November 5, 2000.

TA-W-40,712; Xerox Corp., Webster, NY: January 8, 2001.

TA-W-40,886; Otis Elevator Co., Bloomington, IN: March 7, 2002.

TA-W-40,947; BASF Corp., Vitamin Div., A Subsidiary of BASFIN Corp, Wyandotte, MI: January 14, 2001.

TA-W-41,003; Drexel Heritage Furnishings, Inc., Plant #1, Drexel NC: January 18, 2001.

TA-W-41,004 & A; Spectra Products Corp., Grand Haven, MI and Custom Innovation, Inc., Grand Haven, MI: February 22, 2001.

TA-W-41,080; Bacou Dalloz USA, Inc., Dalloz Safety, Snow Hill, NC: February 20, 2001.

TA-W-41,112; Toshiba America Medical, Inc., South San Francisco, CA: February 7, 2001.

TA-W-41,202; Vertiflex Products, Div. Of VPI Venture Group, LLC, Irwindale, CA: February 20, 2001.

TA-W-41,223; Mead WestVaco Corp., Chillicothe, OH: March 8, 2001.

TA-W-41,312; Rohm and Haas Co., Philadelphia, PA: March 27, 2001.

TA-W-41,289: TRW, Inc., TRW Engine Components, Cleveland Valve Plant, Cleveland, OH: April 3, 2001.

TA-W-39,171; LDC, Inc., Wallington, NJ: April 23, 2000.

TA-W-39,862; Jac Rosa Fashions, Inc., Brooklyn, NY: July 31, 2000.

TA-W-40,145; West Point Stevens, Whitmire, SC: September 14, 2000.

TA-W-40,238; Mueller Electric Co., Cleveland, OH: October 3, 2000.

TA-W-40,396 & A, B, C; Lady Ester Lingerie Corpl, Berwick, PA, Kaydette Plant, Berwick, PA, Briar Creek Plant, Berwick, PA and Lay Ester Lingerie Corp., New York, NY: October 24, 2000.

TA-W-40,418; Wood and Hyde Leather Co., Inc., Gloversville, NY: October 17, 2000.

TA-W-40,433; Olin Corp., Olin Brass Indianapolis Plant, Indianapolis, IN: January 26, 2001.

TA-W-40,516 & A, B; Bayer Clothing Group, Inc., Target Square Facility, Clearfield, PA, Fletcherville Facility, Clearfield, PA and Kent Facility, Curwensville, PA: January 22, 2002.

TA-W-40,555; Tom's Sportswear, Lehighton, PA: December 20, 2000.

TA-W-40,580; Debbi-Sue Fashions, Inc., Bethlehem, PA: November 20, 2000.

TA-W-40,616; Storm Copper Components, Decatur, TN: October 13, 2000.

TA-W-40,619 & A; Cherry Electrical Products Div., Pleasant Prairie, WI and Cherry Automotive, Waukegan, IL: November 29, 2000.

TA-W-40,624; Trion Industries, Inc., Packaging Div., Wilkes-Barre, PA: November 5, 2000.

TA-W-40,645; Star Specialty Knitting Co., Inc., Laconia, NH: October 24, 2000.

TA-W-40,717; DyStar L.P., Coventry, RI: January 9, 2001.

TA-W-40,748; Felix Schoeller Technical Papers, Pulaski, NY: December 18, 2000.

TA-W-40,759; Jordana, Inc., Medley, FL: October 29, 2000.

TA-W-40,785; The Boeing Co., Commercial Airplane Div., Long Beach, CA: February 25, 2002.

TA-W-40,790; Springs Industries, Inc., Aileen Plant, Biscoe, NC: January 29, 2001.

TA-W-40,867; Chase Collecitons, Ltd, Fall River, MA: January 4, 2001.

TA-W-40,868; Lopal Securities, Inc., New York: November 29, 2000.

TA-W-40,913; Emsig Manufacturing Corp., Hudson Div., Hudson, NY: December 21, 2000.

TA-W-40,941; Wheland Automotive Industries, Warrenton, GA: January 14, 2001.

TA-W-40,949; DuPont Beaumont Works, Beaumont, TX: January 14, 2001.

TA-W-40,955; California Joy, Inc., Glendale, CA: January 24, 2001.

TA-W-40,958; Skyjack, Inc., Skyjack Manufacturing, Wathena, KS: October 26, 2000.

TA-W-40,983; Symbol Technologies, Houston, TX: January 3, 2001.

TA-W-41,070; Cali Sportswear, Co., Inc., Pen Argyl, PA: February 5, 2001.

TA-W-41,076; Clarion Sintered Metals, Inc., Ridgway, PA: February 28, 2001.

TA-W-41,140; Columbiaknit, Portland, OR: January 14, 2002.

TA-W-41,204; Carmum International, Div. Of IMI Cornelius, San Antonio, TX: February 7, 2001.

TA-W-41,216; Tama Manufacturing Corp., Inc., Allentown, PA: March 14, 2001.

TA-W-41,265; A.P. Green Industries, Inc., Including Leased Workers of Drexel Personnel Services, Middletown, PA: March 7, 2001.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely.

(3) That imports from Mexico or Canada of articles like or directly competitive with articles produced by such firm or subdivision have increased, and that the increases im ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05000; Weyerhaeuser Co., Springfield Paperboard Mill, Springfield, OR.

NAFTA-TAA-05051; Quality Fabricating, Inc., North Huntington, PA

NAFTA-TAA-05133; Grover Industries, Inc., Gover, NC

NAFTA-TAA-05685; Chemical Line Corp., Douglas Plant, Douglas, AZ

NAFTA-TAA-05754; Polaroid Corp., Waltham, MA

NAFTA-TAA-05920 & A; Spectra Products Corp., Grand Haven, MI and Custom Innovations, Inc., Grand Haven, MI

NAFTA-TAA-05387; Classic Knitting Mills, Inc., Greensboro, NC

NAFTA-TAA-05479; Stan's Wood Products, Inc., Redmond, OR

NAFTA-TAA-05534; Trion Industries, Inc., Packaging Div., Wilkes-Barre, PA

NAFTA-TAA-05636; & A, B; Bayer Clothing Group, Inc., Target Square Facility, Clearfield, PA, Fletcherville Facility, Clearfield, PA and Kent Facility, Curwensville, PA

NAFTA-TAA-05654; Hayes Lemmerz International, Inc., Petersburg, MI.

NAFTA-TAA-05664; Neville Chemical Co., Pittsburgh, PA

NAFTA-TAA-05672; Pacific Scientific Instruments—USA, Formerly Met One, Inc., A Subsidiary of The Danaher Corp., Grants Pass, OR

NAFTA-TAA-05683; Multi Products, Inc., Tool Room Division, Erie, PA

NAFTA-TAA-05701; Trend Technologies, Round Rock, TX

NAFTA-TAA-05709; Precision Twist Drill Co., Rhinelander, WI

NAFTA-TAA-05724; Credence Systems Corp., Hillsboro, OR

NAFTA-TAA-05749; Goodyear Dunlop Tires, N.A. Ltd, Huntsville, AL

NAFTA-TAA-05851; California Joy, Inc., Glendale, CA

NAFTA-TAA-05865; National Steel Pellet Co., Keewatin, MN

NAFTA-TAA-05884; The Boeing Co., Commercial Aircraft Div., Long Beach, CA

NAFTA-TAA-05919; Sonoco Products Co., Industrial Products Div., Lincolnton, NC

NAFTA-TAA-05970; Penn-Union Corp., Nesco Division, Edinboro, PA

NAFTA-TAA-05998; Ibiden Graphite of America Corp., Portland, OR

The investigation revealed that the criteria for eligibility have not been met for the reasons specified.

The investigation revealed that workers of the subject firm did not produce an article within the meaning of Section 250(a) of the Trade Act, as amended.

NAFTA-TAA-06016; Wheelabrator Air Pollution Control, Pittsburgh, PA

NAFTA-TAA-06010; Nature's Art, Albemarle, NC

Affirmative Determinations NAFTA-TAA

NAFTA-TAA-05337; Quality Apparel, Inc., Dillon, SC: September 10, 2000.

NAFTA-TAA-05712; Crown, Cork and Seal Packaging Co., Inc., Plant #77, South Connellsville, PA: January 4, 2001.

NAFTA-TAA-05869; Cherry Automotive, Cherry Corp., Waukegan, IL: February 22, 2001.

NAFTA-TAA-05508; Skyjack, Inc., Skyjack Manufacturing, Wathena, KS: October 26, 2000

NAFTA-TAA-05564; New G.L.I., Inc. (Formerly Doing Business as Como Products), Columbus, IN: November 16, 2000.

NAFTA-TAA-05630; Meridian Automotive Systems, Centralia; IL: November 14, 2000.

NAFTA-TAA-05815; Angelica Corp., Angelica Image Apparel, Collinwood, TN: January 31, 2001.

NAFTA-TAA-05844; Argus International, Inc., Medley, FL: January 7, 2001.

NAFTA-TAA-05850; A.P. Green Industries, Inc., Including Leased Workers of Drexel Personnel Services, Middletown, PA: February 4, 2001.

NAFTA-TAA-05860; Thomas and Betts Corp., Electrical Div., Quakertown, PA: January 15, 2001.

NAFTA-TAA-05956; Process Manufacturing, Inc., Richmond, KY: March 13, 2001.

NAFTA-TAA-05985; Gulfstream Aerospace Technologies, Bethany, OK: March 10, 2001.

NAFTA-TAA-05988; Douglas Furniture of California, LLC, Redondo Beach, CA: March 7, 2001.

NAFTA-TAA-05997; Ametek Specialty Motors, Hudson, WI: February 27, 2001.

NAFTA-TAA-06003; Joseph Timber Company, LLC, Joseph, OR: March 18, 2001.

NAFTA-TAA-06035; Motorola, Integrated Electronics Systems Sector, Automotive Communication Electronic Systems, Including Leased Workers of Manpower, Elma, NY: February 21, 2001.

NAFTA-TAA-06041; Rohm and Haas Company, Philadelphia, PA: March 27, 2001.

NAFTA-TAA-06047; TRW, Inc., TRW Engine Components, Cleveland Valve Plant, Cleveland, OH: April 3, 2001.

NAFTA-TAA-06052; Burrows Paper Company, Packaging Div., Little Falls, NY: December 31, 2000.

I hereby certify that the aforementioned determinations were issued during the month of May, 2002. Copies of these determinations are available for inspection in Room C-5311, U.S. Department of Labor, 200 Constitution Avenue, NW., Washington, D.C. 20210 during normal business hours or will be mailed to persons who write to the above address.

Dated: May 13, 2002.
Edward A. Tomchick,
Director, Division of Trade Adjustment Assistance.

[FR Doc. 02-12382 Filed 5-16-02; 8:45 am]

BILLING CODE 4510-30-M